COMMISSION ON CIVIL RIGHTS

Sunshine Act Meeting

DATE AND TIME: Friday, March 26, 2010; 11:30 a.m. EDT.

PLACE: Via Teleconference.

Public Dial In: 1-800-597-7623.

Conference ID # 63007474.

Meeting Open to Public

Meeting Agenda

This meeting is open to the public, except where noted otherwise.

I. Approval of Agenda

II. Program Planning

• Approval of Letter to Youngstown, Ohio City Council Members re Racially Bifurcated Test Results in the Police and Fire Departments

• Update on Status of 2010 Enforcement Report—Some of the discussion of this agenda item may be held in closed session.

• Update on Status of Title IX Project—Some of the discussion of this agenda item may be held in closed session.

III. Adjourn

CONTACT PERSON FOR FURTHER INFORMATION: Lenore Ostrowsky, Acting Chief, Public Affairs Unit (202) 376-8591. TDD: (202) 376-8116.

Persons with a disability requiring special services, such as an interpreter for the hearing impaired, should contact Pamela Dunston at least seven days prior to the meeting at 202-376-8105. TDD: (202) 376-8116.

Dated: March 16, 2010.
Martin Dannenfelser,
Staff Director.

[FR Doc. 2010-6135 Filed 3-16-10; 4:15 pm]

BILLING CODE 6335-01-P